DEPARTMENT OF HOMELAND SECURITY

Coast Guard

[Docket No. USCG-2011-0736]

Merchant Marine Personnel Advisory Committee: Intercessional Meeting

AGENCY: Coast Guard, DHS.

ACTION: Notice of Federal advisory committee working group meeting.

SUMMARY: The Merchant Marine Personnel Advisory Committee (MERPAC) will conduct an intercessional meeting so that a working group may discuss Task Statement 75, entitled “Review of the Supplemental Notice of Proposed Rulemaking Concerning the Implementation of the Amendments to the International Convention on Standards of Training, Certification and Watchkeeping for Seafarers, 1978, and Changes to Domestic Endorsements.” This meeting will be open to the public.

DATES: A MERPAC work group will meet on September 8, 2011, 2011, from 8 a.m. until 5 p.m., and on September 9, 2011, from 8 a.m. until 4 p.m. Please note that the meeting may adjourn early if all business is finished. Written comments to be distributed to work group members and placed on MERPAC's Web site are due by August 25, 2011.

ADDRESSES: The work group will meet in Room 6103 of Coast Guard Headquarters, 2100 Second Street, SW., Washington, DC 20593. We request that members of the public who plan to attend this meeting notify Mr. Rogers Henderson at 202-372-1408 no later than September 1, 2011, so that building security officials can be notified. Attendees will be required to provide a picture identification card in order to gain admittance to the Coast Guard Headquarters building.

For information on facilities or services for individuals with disabilities or to request special assistance, contact Mr. Rogers Henderson at 202-372-1408 as soon as possible.

To facilitate public participation, we are inviting public comment on the issues to be considered by the work group as listed in the “Agenda” section below. Written comments must be identified by Docket No. USCG-2011-0736 and may be submitted by one of the following methods:

• Federal eRulemaking Portal: http://www.regulations.gov. Follow the instructions for submitting comments (preferred method to avoid delays in processing).

• Fax: 202-372-1918.

• Mail: Docket Management Facility (M-30), U.S. Department of Transportation, West Building Ground Floor, Room W12-140, 1200 New Jersey Avenue, SE., Washington, DC 20590-0001.

• Hand delivery: Same as mail address above, between 9 a.m. and 5 p.m., Monday through Friday, except Federal holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov.

This notice may be viewed in our online docket, USCG-2011-0736, at http://www.regulations.gov.

FOR FURTHER INFORMATION CONTACT: Mr. Mark Gould, Alternate Designated Federal Officer (ADFO) to the Designated Federal Officer (DFO) of MERPAC, telephone 206-728-1368. If you have any questions on viewing or submitting material to the docket, call Renee V. Wright, Program Manager, Docket Operations, telephone 202-366-9826.

SUPPLEMENTARY INFORMATION: Notice of this meeting is given under the Federal Advisory Committee Act (FACA), 5 U.S.C. App. (Pub. L. 92-463).

MERPAC is an advisory committee authorized under section 871 of the Homeland Security Act of 2002, Title 6, United States Code, section 451, and chartered under the provisions of the FACA. The Committee will act solely in an advisory capacity to the Secretary of the Department of Homeland Security (DHS) through the Commandant of the Coast Guard and the Director of Commercial Regulations and Standards on matters relating to personnel in the U.S. Merchant Marine, including but not limited to training, qualifications, certification, documentation, and fitness standards. The Committee will advise, consult with, and make recommendations reflecting its independent judgment to the Secretary.

Agenda

Day 1

The agenda for September 8, 2011, work group meeting is as follows:

(1) Discuss task objectives described in summary paragraph above;

(2) Public comment period;

(3) Discuss and prepare proposed recommendations for the full committee to consider concerning Task Statement 75, entitled, “Review of the Supplemental Notice of Proposed Rulemaking Concerning the Implementation of the Amendments to the International Convention on Standards of Training, Certification and Watchkeeping for Seafarers, 1978, and Changes to Domestic Endorsements;” and

(4) Adjournment of meeting.

Day 2

The agenda for the September 9, 2011, work group meeting is as follows:

(1) Continue discussion on proposed recommendations;

(2) Public comment period;

(3) Prepare final recommendations for the full committee to consider concerning Task Statement 75, entitled, “Review of the Supplemental Notice of Proposed Rulemaking Concerning the Implementation of the Amendments to the International Convention on Standards of Training, Certification and Watchkeeping for Seafarers, 1978, and Changes to Domestic Endorsements;” and

(4) Adjournment of meeting.

Procedural: A copy of all meeting documentation is available at the https://www.fido.gov Web site or by contacting Mark Gould. Once you have accessed the MERPAC Committee page, click on the meetings tab and then the “View” button for the meeting dated September 8-9, 2011 to access the information for this meeting. Minutes will be available 90 days after this meeting. Both minutes and documents applicable for this meeting can also be found at an alternative site using the following Web address: https://homeport.uscg.mil and use these key strokes: Missions; Port and Waterways Safety; Advisory Committees; MERPAC; and then use the event key.

A public oral comment period will be held during the work group meeting. Speakers are requested to limit their comments to 3 minutes. Please note that the public oral comment period may end before the prescribed ending time indicated following the last call for comments. Contact Mark Gould as indicated above to register as a speaker.

Dated: August 10, 2011.
J.G. Lantz,
Director of Commercial Regulations and Standards.

[FR Doc. 2011-20804 Filed 8-15-11; 8:45 am]

BILLING CODE 9110-04-P